DEPARTMENT OF COMMERCE

National Oceanic and Atmospheric Administration

[RTID 0648-XB578]

North Pacific Fishery Management Council; Public Meeting

AGENCY: National Marine Fisheries Service (NMFS), National Oceanic and Atmospheric Administration (NOAA), Commerce.

ACTION: Notice of public meetings.

SUMMARY: The North Pacific Fishery Management Council (Council) and its advisory committees will meet.

DATES: The meetings will be held from December 2, 2021 through December 16, 2021. See SUPLEMENTARY INFORMATION for specific dates and times.

ADDRESSES: The meetings will be by web conference. Join online through the links at https://www.npfmc.org/upcoming-council-meetings.

Council address: North Pacific Fishery Management Council, 1007 W 3rd Ave, Anchorage, AK 99501-2252; telephone: (907) 271-2809. Instructions for attending the meeting via web conference are given under Connection Information below.

FOR FURTHER INFORMATION CONTACT: Diana Evans, Council staff; email: diana.evans@noaa.gov. For technical support, please contact our administrative staff, email: npfmc.admin@noaa.gov.

SUPPLEMENTARY INFORMATION: The Council's Scientific and Statistical Committee (SSC) will begin at 8 a.m. on Thursday, December 2, 2021, through Friday, December 3, 2021, and on Monday, December 6, 2021, through Thursday, December 9, 2021. The Council's Advisory Panel (AP) will begin at 8 a.m. on Thursday, December 2, 2021, through Friday, December 3, 2021, and on Monday, December 6, 2021, through Thursday, December 9, 2021. The Council will meet on Wednesday, December 8, 2021, through Friday, December 10, 2021, and on Monday, December 13, 2021, through Thursday, December 16, 2021. All times listed are Alaska Time.

Agenda

Thursday, December 2, 2021, Through Friday, December 3, 2021; Monday, December 6, 2021, Through Thursday, December 9, 2021

The SSC agenda will include the following issues:

(1) BSAI (Bering Sea Aleutian Islands) Groundfish—Final harvest specifications; Joint and BSAI Plan Team reports; ecosystem status report

(2) GOA (Gulf of Alaska) Groundfish—Final harvest specifications; Plant Team report; ecosystem status report

The agenda is subject to change, and the latest version will be posted at https://meetings.npfmc.org/Meeting/Details/2714 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Thursday, December 2, 2021, Through Friday, December 3, 2021; Monday, December 6, 2021, Through Thursday, December 9, 2021

The Advisory Panel agenda will include the following issues:

(1) Charter Halibut—2022 annual management measures, committee report

(2) BSAI Halibut abundance-based management (ABM)

(3) BSAI Groundfish—final harvest specifications; Joint and BSAI Plan Team reports; ecosystem status report

(4) GOA Groundfish—final harvest specifications; Plan Team reports; ecosystem status report

(5) Staff tasking

Wednesday, December 8, 2021, Through Friday, December 10, 2021; Monday, December 13, 2021, Through Thursday, December 16, 2021

The Council agenda will include the following issues. The Council may take appropriate action on any of the issues identified.

(1) All B Reports (Executive Director, NMFS Management, NOAA GC, NOAA Enforcement, ADF&G, USCG, USFWS)

(2) Charter Halibut—2022 annual management measures, committee report

(3) BSAI Halibut abundance-based management (ABM)—Final Action

(4) AP Report in full

(5) BSAI Groundfish—final harvest specifications; Joint and BSAI Plan Team reports; ecosystem status report

(6) GOA Groundfish—final harvest specifications; Plan Team reports; ecosystem status report

(7) D1 Red King Crab Savings Area Extension—Consideration of emergency action request

(8) Staff Tasking

Connection Information

You can attend the meeting online using a computer, tablet, or smartphone; or by telephone only. Connection information will be posted online at: https://www.npfmc.org/upcoming-council-meetings. For technical support, please contact our administrative staff, email: npfmc.admin@noaa.gov.

Public Comment

Public comment letters will be accepted and should be submitted electronically through the links at https://www.npfmc.org/upcoming-council-meetings. The Council strongly encourages written public comment for this meeting, to avoid any potential for technical difficulties to compromise oral testimony. The written comment period is open from November 15, 2021, to November 30, 2021, and closes at 5 p.m. Alaska Time on November 30th.

Although other non-emergency issues not on the agenda may come before this group for discussion, those issues may not be the subject of formal action during these meetings. Actions will be restricted to those issues specifically listed in this notice and any issues arising after publication of this notice that require emergency action under section 305(c) of the Magnuson-Stevens Fishery Conservation and Management Act, provided the public has been notified of the Council's intent to take final action to address the emergency.

Authority: 16 U.S.C. 1801 et seq.

Dated: November 9, 2021.
Tracey L. Thompson,
Acting Deputy Director, Office of Sustainable Fisheries, National Marine Fisheries Service.

[FR Doc. 2021-24846 Filed 11-12-21; 8:45 am]

BILLING CODE 3510-22-P